DEPARTMENT OF THE INTERIOR

Fish and Wildlife Service

[FWS-HQ-LE-2018-N149; FF09L00200-FX-LE18110900000; OMB Control Number 1018-0012]

Agency Information Collection Activities; Declaration for Importation or Exportation of Fish or Wildlife

AGENCY: Fish and Wildlife Service, Interior.

ACTION: Notice of Information Collection; request for comment.

SUMMARY: In accordance with the Paperwork Reduction Act of 1995, we, the U.S. Fish and Wildlife Service (Service) are proposing to renew an information collection.

DATES: Interested persons are invited to submit comments on or before April 2, 2019.

ADDRESSES: Send your comments on the information collection request (ICR) by mail to the Service Information Collection Clearance Officer, U.S. Fish and Wildlife Service, MS: BPHC, 5275 Leesburg Pike, Falls Church, VA 22041-3803 (mail); or by email to Info_Coll@fws.gov. Please reference OMB Control Number 1018-0012 in the subject line of your comments.

FOR FURTHER INFORMATION CONTACT: To request additional information about this ICR, contact Madonna L. Baucum, Service Information Collection Clearance Officer, by email at Info_Coll@fws.gov, or by telephone at (703) 358-2503.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of the Service; (2) will this information be processed and used in a timely manner; (3) is the estimate of burden accurate; (4) how might the Service enhance the quality, utility, and clarity of the information to be collected; and (5) how might the Service minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The Endangered Species Act (Act; 16 U.S.C. 1531 et seq.) makes it unlawful to import or export fish, wildlife, or plants without filing a declaration or report deemed necessary for enforcing the Act or upholding the Convention on International Trade in Endangered Species (CITES) (see 16 U.S.C. 1538(e)). With a few exceptions, businesses, individuals, or government agencies importing into or exporting from the United States any fish, wildlife, or wildlife product must complete and submit to the Service an FWS Form 3-177 (Declaration for Importation or Exportation of Fish or Wildlife). This form, as well as FWS Form 3-177a (Continuation Sheet) and instructions for completion, are available for electronic submission at https://edecs.fws.gov. These forms are also available in fillable format at http://www.fws.gov/forms/. The information that we collect is unique to each wildlife shipment and enables us to:

• Accurately inspect the contents of the shipment;

• Enforce any regulations that pertain to the fish, wildlife, or wildlife products contained in the shipment; and

• Maintain records of the importation and exportation of these commodities.

Businesses or individuals must file FWS Forms 3-177 and 3-177a with us at the time when and at the port where they request clearance of the import or export of wildlife or wildlife products. Our regulations allow certain species of wildlife to be imported or exported between the United States and Canada or Mexico at U.S. Customs and Border Protection ports, even though our wildlife inspectors may not be present. In these instances, importers and exporters may file the forms with U.S. Customs and Border Protection. We collect the following information:

(1) Name of the importer or exporter and broker.

(2) Scientific and common name of the fish or wildlife.

(3) Permit numbers (if permits are required).

(4) Description, quantity, and value of the fish or wildlife.

(5) Natural country of origin of the fish or wildlife.

In addition, certain information, such as the airway bill or bill of lading number, the location of the shipment containing the fish or wildlife for inspection, and the number of cartons containing fish or wildlife, assists our wildlife inspectors if a physical examination of the shipment is necessary.

In 2009, we implemented a new user fee system intended to recover the costs of the compliance portion of the wildlife inspection program. Since that time, we have been made aware that we may have placed an undue economic burden on businesses that exclusively trade in small volumes of low-value, non-federally protected wildlife parts and products. To address this issue, we implemented a program that exempts certain businesses from the designated port base inspection fees as an interim measure while we reassess the current user fee system. Businesses that possess a valid Service import/export license may request to participate in the fee exemption program through our electronic filing system (eDecs). Qualified licensees must create an eDecs filer account as an importer or exporter, if they do not already have one, and file their required documents electronically.

To be an approved participating business in the program and receive an exemption from the designated port base inspection fee, the licensed business must certify that it will exclusively import or export nonliving wildlife that is not listed as injurious under 50 CFR part 16 and does not require a permit or certificate under 50 CFR parts 15 (Wild Bird Conservation Act), 17 (Endangered Species Act), 18 (Marine Mammal Protection Act), 20 and 21 (Migratory Bird Treaty Act), 22 (Bald and Golden Eagle Protection Act), or 23 (the Convention on International Trade in Endangered Species of Wild Fauna and Flora). The requesting business also must certify that it will exclusively import or export the above types of wildlife shipments where the quantity in each shipment of wildlife parts or products is 25 or fewer and the total value of each wildlife shipment is $5,000 or less. Any licensed business that has more than two wildlife shipments that were refused clearance in the 5 years prior to its request is not eligible for the program. In addition, any licensees that have been assessed a civil penalty, issued a notice of violation, or convicted of a misdemeanor or felony violation involving wildlife import or export will not be eligible to participate in the program.

We are also requesting OMB's continued approval for electronic collection of data through U.S. Customs and Border Protection's Automated Commercial Environment (ACE) as an alternative electronic option for importers and exporters to eDecs. The Safe Port Act requires the Service to participate in the International Trade Data System, and the Executive Order on Streamlining Exports and Imports establishes ACE as the primary means for collection of international trade data by the government. The latter includes the use of Census's Automated Export System (AES) to collect agency licenses and other permissions for exports. Although the Service does not mandate importers or exporters to use ACE and AES to file Service data at this time, we will begin collection of data in ACE as an alternative to eDecs. If importers file in ACE, they will not file in eDecs.

Title of Collection: Declaration for Importation or Exportation of Fish or Wildlife, 50 CFR 14.61-14.64 and 14.94(k)(4).

OMB Control Number: 1018-0012.

Form Number: 3-177 and 3-177a.

Type of Review: Extension of a currently approved collection.

Respondents/Affected Public: Businesses or individuals that import or export fish, wildlife, or wildlife products; scientific institutions that import or export fish or wildlife scientific specimens; and government agencies that import or export fish or wildlife specimens for various purposes.

Respondent's Obligation: Required to obtain or retain a benefit.

Frequency of Collection: On occasion.

Total Estimated Annual Nonhour Burden Cost: None.

Requirement | Annual number of respondents | Total annual responses | Completion time per response (minutes) | Total annual burden hours *
3-177 Hard Copy—Upon Import (and accompanying documents)
Individuals | 5,405 | 6,485 | 15 | 1,621
Private Sector | 193 | 746 | 15 | 187
Government | 0 | 0 | 15 | 0
Subtotals: | 5,598 | 7,231 |  | 1,808
3-177 Hard Copy—Upon Export (and accompanying documents)
Individuals | 442 | 523 | 15 | 131
Private Sector | 96 | 731 | 15 | 183
Government | 0 | 0 | 15 | 0
Subtotals: | 538 | 1,254 |  | 314
3-177 eDecs/ACE—Upon Import (and Accompanying Documents)
Individuals | 1,054 | 22,455 | 10 | 3,743
Private Sector | 5,968 | 114,812 | 10 | 19,135
Government | 2 | 139 | 10 | 23
Subtotals: | 7,024 | 137,406 |  | 22,901
3-177 eDecs—Upon Export (and Accompanying Documents)
Individuals | 449 | 2,114 | 10 | 352
Private Sector | 1,373 | 32,952 | 10 | 5,492
Government | 2 | 109 | 10 | 18
Subtotals: | 1,824 | 35,175 |  | 5,863
eDecs—Confirmation Number (Automated Export System (AES))
Private Sector | 1,824 | 35,175 | 1 | 586
Automated Commercial Environment (ACE)/AES Disclaimer (and Accompanying Documents)
Private Sector | 5,000 | 500,000 | 1 | 8,333
eDecs—Fee Exemption Certification
Private Sector | 33 | 2,221 | 1 | 37
Total | 21,841 | 718,462 |  | 39,841
* Rounded.

An agency may not conduct or sponsor and a person is not required to respond to a collection of information unless it displays a currently valid OMB control number.

The authority for this action is the Paperwork Reduction Act of 1995 (44 U.S.C. 3501 et seq.).

Dated: January 29, 2019.
Madonna Baucum,
Information Collection Clearance Officer, U.S. Fish and Wildlife Service.

[FR Doc. 2019-00622 Filed 1-31-19; 8:45 am]

BILLING CODE 4333-15-P